DEPARTMENT OF THE INTERIOR

Bureau of Ocean Energy Management

[OMB Control Number 1010-0176; Docket ID: BOEM-2017-0016]

Agency Information Collection Activities; Submission to the Office of Management and Budget for Review and Approval; Renewable Energy and Alternate Uses of Existing Facilities on the Outer Continental Shelf

AGENCY: Bureau of Ocean Energy Management, Interior.

ACTION: Notice of Information Collection; request for comment.

SUMMARY: In accordance with the Paperwork Reduction Act of 1995, the Bureau of Ocean Energy Management (BOEM) is proposing to renew an information collection with revisions.

DATES: Interested persons are invited to submit comments on or before July 11, 2019.

ADDRESSES: Send written comments on this information collection request (ICR) to the Office of Management and Budget's Desk Officer for the Department of the Interior by email at OIRA_Submission@omb.eop.gov; or via facsimile to 202-395-5806. Please provide a copy of your comments to the BOEM Information Collection Clearance Officer, Anna Atkinson, Bureau of Ocean Energy Management, 45600 Woodland Road, Sterling, Virginia, 20166; or by email to anna.atkinson@boem.gov. Please reference Office of Management and Budget (OMB) Control Number 1010-0176 in the subject line of your comments.

FOR FURTHER INFORMATION CONTACT: To request additional information about this ICR, contact Anna Atkinson by email, or by telephone at 703-787-1025. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on February 11, 2019 (84 FR 3232). No comments were received.

We are again soliciting comments on the proposed ICR that is described below. We are especially interested in public comment addressing the following issues: (1) Is the collection necessary to the proper functions of BOEM; (2) will this information be processed and used in a timely manner; (3) is the estimate of burden accurate; (4) how might BOEM enhance the quality, utility, and clarity of the information to be collected; and (5) how might BOEM minimize the burden of this collection on the respondents, including minimizing the burden through the use of information technology?

Comments that you submit in response to this notice are a matter of public record. We will include or summarize each comment in our request to the Office of Management and Budget (OMB) for approval of this ICR. You should be aware that your entire comment—including your address, phone number, email address, or other personal identifying information—may be made publicly available at any time. In order for BOEM to withhold from disclosure your personally identifiable information, you must identify any information contained in the submittal of your comments that, if released, would clearly constitute an unwarranted invasion of your personal privacy. You must also briefly describe any possible harmful consequences of the disclosure of your information, such as embarrassment, injury, or other harm. While you can ask us in your comment to withhold your personally identifiable information from public review, we cannot guarantee that we will be able to do so.

BOEM protects proprietary information in accordance with the Freedom of Information Act (5 U.S.C. 552), the Department of the Interior's FOIA regulations (43 CFR part 2), and 30 CFR 585.113.

Abstract: This information collection request concerns the paperwork requirements in the regulations under 30 CFR part 585, Renewable Energy and Alternate Uses of Existing Facilities on the Outer Continental Shelf (OCS) issued pursuant to the OCS Lands Act, as amended (43 U.S.C. 1331 et seq.). The OCS Lands Act at subsection 8(p) (43 U.S.C. 1337(p)) authorizes the Secretary of the Interior to issue leases, easements, or rights-of way on the OCS for activities that produce or support production, transportation, or transmission of energy from sources other than oil and gas, including renewable energy. Subsection 8(p) directs the Secretary of the Interior to issue any necessary regulations to carry out the OCS renewable energy program. The Secretary delegated this authority to BOEM. BOEM has issued regulations for OCS renewable energy activities at 30 CFR part 585; this notice concerns the reporting and recordkeeping elements required under these regulations.

Respondents are lessees and grantees submitting plans for commercial and noncommercial renewable energy projects on the OCS, and, if such plans are approved, constructing, operating, maintaining, and decommissioning. BOEM must ensure that these activities are carried out in a manner that provides for, among other things, safety, protection of the environment, and consideration of other users of the OCS. In order to execute its duties, BOEM requires information regarding, inter alia, potential purchasers of leases, grants, and rights-of-way; their proposed activities; and their payments to the Treasury and financial assurance.

BOEM uses forms to collect some information to ensure proper and efficient administration of OCS renewable energy leases and grants and to document the financial responsibility of lessees and grantees. Forms BOEM-0002, BOEM-0003, BOEM-0004, and BOEM-0006 are used by renewable energy entities on the OCS to assign a lease interest, designate an operator, and assign or relinquish a lease or grant. Form BOEM-0005 was designed to be used to document a surety's guarantee of the performance of the regulatory obligations of OCS lessees and grantees. BOEM maintains the submitted forms as official lease and grant records.

Title of Collection: 30 CFR 585, Renewable Energy and Alternate Uses of Existing Facilities on the Outer Continental Shelf.

OMB Control Number: 1010-0176.

Form Number:

• BOEM-0002, Outer Continental Shelf (OCS) Renewable Energy Assignment of Grant;

• BOEM-0003, Assignment of Record Title Interest in Federal OCS Renewable Energy Lease;

• BOEM-0004, Outer Continental Shelf (OCS) Renewable Energy Lease or Grant Relinquishment Application;

• BOEM-0005, Outer Continental Shelf (OCS) Renewable Energy Lessee's, Grantee's, and Operator's Bond; and

• BOEM-0006, Outer Continental Shelf (OCS) Renewable Energy Lease or Grant Designation of Operator.

Type of Review: Revision of a currently approved collection.

Respondents/Affected Public: Companies interested in renewable energy-related uses on the OCS and holders of leases and grants under 30 CFR part 585.

Total Estimated Number of Annual Responses: 265 responses.

Total Estimated Number of Annual Burden Hours: 18,783 hours.

Respondent's Obligation: Mandatory or Required to Obtain or Retain a Benefit.

Frequency of Collection: On occasion or annually.

Total Estimated Annual Non-hour Burden Cost: $3,816,000 non-hour costs. The non-hour cost burdens consist of service fees for BOEM document/study preparation, costs for paying a contractor instead of BOEM, and costs for a site-specific study and report to evaluate the cause of harm to natural resources.

Estimated Reporting and Recordkeeping Hour Burden: The estimated annual hour burden for this collection is 18,783 hours. In calculating the cost for the hour burdens, we assumed that respondents perform certain requirements in the normal course of their activities. We consider some information collection activities to be usual and customary, and took that into account in estimating the burden.

An agency may not conduct or sponsor, and a person is not required to respond to, a collection of information unless it displays a currently valid OMB control number.

The authority for this action is the Paperwork Reduction Act of 1995 (44 U.S.C. 3501 et seq.).

Deanna Meyer-Pietruszka,
Chief, Office of Policy, Regulations, and Analysis.

[FR Doc. 2019-12409 Filed 6-11-19; 8:45 am]

BILLING CODE 4310-MR-P